DEPARTMENT OF ENERGY

Energy Information Administration

Agency Information Collection Extension

AGENCY: U.S. Energy Information Administration (EIA), Department of Energy.

ACTION: Agency information collection activities: Information collection extension with change, comment request.

SUMMARY: The EIA, pursuant to the Paperwork Reduction Act of 1995, intends to submit an information collection request for the Coal Markets Reporting System, OMB Control Number 1905-0167, with the Office of Management and Budget (OMB). EIA is soliciting comments on the proposed revisions and requests a three-year extension to Forms:

EIA-3 “Quarterly Survey of Non-Electric Sector Coal Data”

EIA-7A “Annual Survey of Coal Production and Preparation”

EIA-8A “Annual Survey of Coal Stocks and Coal Exports”

No changes are proposed for Forms:

EIA-6 “Emergency Coal Supply Survey (Standby)”

EIA-20 “Emergency Weekly Coal Monitoring Survey for Coal Burning Power Producers (Standby)”

The EIA proposes to make moderate changes to questions, response options, and instructions to Forms EIA-3, EIA-7A, and EIA-8A and requests an extension to Forms EIA-6 and EIA-20 with no substantive changes. EIA is proposing to require submission of Form EIA-3 and EIA-8A through the U.S. Energy Information Administration Data xChange Portal and will eliminate unsecured reporting modes. The Data xChange Portal:

• Serves as a single point of entry for authorized users to respond to EIA surveys, access EIA data, and build customized reports.

• Provides expanded communication methods to include phone and email contact information of centralized data collection team

• Uses security protocols to protect the information against unauthorized access during transmission.

• Requires data submission through an online web form, eliminating unsecured reporting methods.

DATES: Comments must be filed by November 15, 2016. If you anticipate that you will be submitting comments, but find it difficult to do so within the period of time allowed by this notice, please advise the EIA-7A Survey Manager at EIA of your intention to make a submission as soon as possible. The Survey Manager may be contacted by email at JenAlyse.Arena@eia.gov or by telephone at 202-586-4866.

ADDRESSES: Written comments should be sent to: Attn: JenAlyse Arena, EIA-7A Survey Manager, U.S. Energy Information Administration, EI-24, 1000 Independence Avenue SW., Washington, DC 20585.

FOR FURTHER INFORMATION CONTACT: Requests for additional information or copies of any forms and instructions should be directed to Ms. JenAlyse Arena at the contact information listed above. The proposed forms and instructions are available on the Internet at: http://www.eia.gov/survey/changes/coal/2016/.

SUPPLEMENTARY INFORMATION: This information collection request contains:

(1) OMB No. 1905-0167;

(2) Information Collection Request Title: Coal Markets Reporting System. The survey forms:

EIA-3 “Quarterly Survey of Non-Electric Sector Coal Data”

EIA-7A “Annual Survey of Coal Production and Preparation”

EIA-8A “Annual Survey of Coal Stocks and Coal Exports”

EIA-6 “Emergency Coal Supply Survey (Standby)”

EIA-20 “Emergency Weekly Coal Monitoring Survey for Coal Burning Power Producers (Standby)”

(3) Type of Request: Three-year extension with changes;

(4) Purpose:The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of energy and its interaction with the economy and the environment.

The EIA, as part of its effort to comply with the Paperwork Reduction Act of 1995 (44 U.S.C. 3501, et seq.), provides the general public and other Federal agencies with opportunities to comment on collections of energy information conducted by, or in conjunction with, the EIA. Also, the EIA will later seek approval for this collection from the Office of Management and Budget (OMB) under Section 3507(a) of the Paperwork Reduction Act of 1995.

EIA surveys are conducted to collect coal market data. The data elements include production, consumption, receipts, stocks, sales, and prices. Information pertaining to the quality of the coal is also collected. Aggregates of this collection are used to support public policy analyses of the coal industry, economic modeling, forecasting, coal supply and demand studies, and in guiding research and development programs. EIA publications, including the Monthly Energy Review, Quarterly Coal Report, Quarterly Coal Distribution Report, Annual Coal Report, and Annual Coal Distribution Report, each contain data collected through the coal production and consumption surveys listed above.

In addition, the EIA uses the data in short-term and long-term models such as the Short-Term Integrated Forecasting System (STIFS) and the National Energy Modeling System (NEMS) Coal Market Module. The forecast data also appear in the Short-Term Energy Outlook and the Annual Energy Outlook publications.

Please refer to the proposed forms and instructions for more information about the purpose, who must report, when to report, where to submit, elements to be reported, detailed instructions, provisions for confidentiality, and uses of the information.

(4a) Proposed Changes: EIA will be requesting a three-year extension of approval for all its coal surveys with the following changes:

Form EIA-3: Quarterly Survey of Non-Electric Sector Coal Data

• Change the title of the survey to “Quarterly Survey of Industrial, Commercial, & Institutional Coal Users”

• In Part 2, Question 6, revise reporting for co-fired sites to allow reporting of more than one additional fuel source.

• In Part 3, Question 2, remove Adjustments to total cost of coal received during the reporting cycle.

• In Part 5, Questions 2-3, revise coking plant disposition categories and include distinction between domestic and export sales of coke and breeze to gather more accurate data on each type of sale.

• In Part 8, Question 2, revise coal refining plant disposition categories to allow for accurate accounting of refined coal.

EIA proposes adding the following questions to Form EIA-3:

• In Part 2, Question 2, add the question: “Does this site operate a coke oven”? This question will be used to identify active U.S. coking plants within manufacturing sites.

• In Part 3, Question 3A, add the question “Please provide the contact information for your broker.” Contact information will be used to help maintain the EIA-8A frame, eliminate duplicative reporting on Form EIA-7A and reduce burden between Forms EIA-8A and EIA-7A.

Form EIA-7A: Annual Survey of Coal Production and Preparation

• In Part 5, question 7, revise reporting categories of coal mine sales to simplify question wording while adding export categories to include open market export sales, captive market export sales, and broker export sales. The new categories will provide more accurate information on coal exports by type of sale and seller by eliminating potential double-counting of export coal sales on Form EIA-8A. It will improve EIAs assessments on production trends and coal supply by basin. It will also facilitate EIA's comparison of coal supply by basin with export data collected by the U.S. Census Bureau.

EIA proposes adding the following questions to Form EIA-7A:

• In Part 3, Question 5A, add the question “What is the average depth of the mine below the surface?” This question will assist with data discrepancies of coalbed data reported by comparing coalbeds mined with U.S. Geological Survey data.

• In Part 5, delete question 2 “With the existing equipment in place, what is the maximum amount of coal that this mining operation can produce during the reporting year?” and add “With the existing equipment in place, what is the annual operating capacity of this mine?” This is a rewording to the current question requesting annual operating/producing capacity. By comparing actual production compared to operating capacity, EIA can assess if mines are producing at maximum capacity and can use this as an indicator of market conditions affecting coal supply.

• In Part 5, delete question 5 “As of December 31st of the reporting year, what is the estimated tonnage representing the amount of coal identified in the reserve that is technologically and economically feasible to extract?” and add “As of December 31st of the reporting year, what is the estimated amount of coal in the reserve that is feasible (economically/technologically) to extract? This rewording of the current question requesting recoverable coal reserves helps clarify to respondents to report the amount of coal that can be recovered from the coal reserve in place.

Form EIA-8A: Annual Survey of Coal Stocks and Coal Exports

• In Part 2, Question 2, revise list of locations where U.S. produced coal stocks are located to include “IT—In Transit”

• In Part 3, Question 2, add new field requesting port of export and destination country for export sales to gather more detailed export data and assist in cross-survey comparison with the EIA-7A and coal trade data collected by the U.S. Census Bureau to quantify and eliminate double-counting of export coal sales.

Standby Forms EIA-6: Emergency Coal Supply Survey (Standby) and EIA-20: Emergency Weekly Coal Monitoring Survey for Coal Burning Power Producers (Standby)

• No substantive changes will be made to these forms.

Request for Comments: As a potential respondent to the request for information, review the proposed changes mentioned above, the survey forms and instructions, and please advise the following:

• Is the proposed collection of information necessary for the proper performance of the functions of the agency and does the information have practical utility?

• What actions could be taken to help ensure and maximize the quality, objectivity, utility, and integrity of the information to be collected?

• Are the instructions and definitions clear and sufficient? If not, which instructions need clarification?

• Can the information be submitted by the respondent by the due date?

• Can information be submitted using the proposed collection method?

(5) Estimated Number of Survey Respondents: 2,429.

• EIA-3 will consist of 432 respondents

• EIA-7A will consist of 848 respondents

• EIA-8A will consist of 48 respondents

• EIA-6 (standby) will consist of 610 respondents

• EIA-20 (standby) will consist of 491 respondents

(6) Annual Estimated Number of Responses: 3,725.

(7) Annual Estimated Number of Burden Hours: 5,515.

(8) Annual Estimated Reporting and Recordkeeping Cost Burden: Additional costs to respondents are not anticipated beyond costs associated with response burden hours. The information is maintained in the normal course of business. The cost of the burden hours is estimated to be $397,190 (5,515 burden hours times $72.02 per hour). Other than the cost of burden hours, EIA estimates that there are no additional costs for generating, maintaining and providing the information.

Statutory Authority: Section 13(b) of the Federal Energy Administration Act of 1974, Pub. L. 93-275, codified at 15 U.S.C. 772(b), and the DOE Organization Act of 1977, Pub. L. 95-91, codified at 42 U.S.C. 7101 et seq.

Issued in Washington, DC, on September 9, 2016.
Renee Miller,
Acting Director, Office of Survey Development and Statistical Integration, U.S. Energy Information Administration.

[FR Doc. 2016-22310 Filed 9-15-16; 8:45 am]

BILLING CODE 6450-01-P